DEPARTMENT OF HEALTH AND HUMAN SERVICES

Centers for Disease Control and Prevention

Board of Scientific Counselors, National Center for Injury Prevention and Control, (BSC, NCIPC)

In accordance with Section 10(a)(2) of the Federal Advisory Committee Act (Pub. L. 92-463), the Centers for Disease Control and Prevention (CDC) announces, the following meeting of the aforementioned committee:

Times and Dates:

8:30 a.m.-5:00 p.m., July 15, 2015 (OPEN)

8:30 a.m.-5:00 p.m., July 16, 2015 (CLOSED)

Place: Centers for Disease Control and Prevention, 4770 Buford Highway, Chamblee Campus, Building 106, Conference Room 1-B, Atlanta, GA 30341

Status: Portions of the meeting as designated above will be closed to the public in accordance with provisions set forth in Section 552b(c)(4) and (6), Title 5 U.S.C., and the Determination of the Director, Management Analysis and Services Office, CDC pursuant to Public Law 92-463.

Purpose: The Board of Scientific Counselors makes recommendations regarding policies, strategies, objectives, and priorities; and reviews progress toward injury prevention goals and provides evidence in injury prevention-related research and programs. The Board also provides advice on the appropriate balance of intramural and extramural research, the structure, progress and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals. The board shall provide guidance on the National Center of Injury Prevention and Control's programs and research activities by conducting scientific peer review of intramural research and programs within the National Center for Injury Prevention and Control; by ensuring adherence to Office of Management and Budget requirements for intramural peer review; and by monitoring the overall direction, focus, and success of the National Center for Injury Prevention and Control.

Matters for Discussion: The BSC, NCIPC will discuss, research strategies needed to guide the Center's focus, updates on the current research portfolio review and the Pediatric mild-Traumatic Injury Workgroup. There will be 15 minutes allotted for public comments at the end of the open session.

On the second day of the meeting, the BSC, NCIPC will meet to conduct a Secondary Peer Review of extramural research grant applications received in response to five (5) Funding Opportunity Announcements (FOAs): CE15-001, Research Grants for Preventing Violence and Violence Related Injury (R01) Documents; CE15-002, The CDC National Centers of Excellence in Youth Violence Prevention Cycle 1; CE15-003, Evaluating Structural, Economic, Environmental, or Policy Primary Prevention Strategies for Intimate Partner Violence and Sexual Violence; CE15-004, Evaluating Innovative and Promising Strategies to Prevent Suicide among Middle-Aged Men; and CE15-005, Research to Evaluate the CDC Heads Up Initiative in Youth Sports. Applications will be assessed as they relate to the Center's mission and programmatic balance. Recommendations from the secondary review will be voted upon and the application will be forwarded to the Center Director for consideration for funding support.

Agenda items are subject to change as priorities dictate.

Contact Person for More Information: Gwendolyn H. Cattledge, Ph.D., M.S.E.H., Deputy Associate Director for Science and Designated Federal Official, NCIPC, CDC, 4770 Buford Highway, NE., Mailstop F-63, Atlanta, GA 30341, Telephone (770) 488-1430.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2015-14750 Filed 6-15-15; 8:45 am]

BILLING CODE 4163-18-P